DEPARTMENT OF COMMERCE

International Trade Administration

[A-533-838; A-570-892]

Carbazole Violet Pigment 23 From India and the People's Republic of China: Final Results of Expedited Second Sunset Reviews of Antidumping Duty Orders

AGENCY: Enforcement and Compliance, International Trade Administration, Department of Commerce.

SUMMARY: As a result of these sunset reviews, the Department of Commerce (the Department) finds that revocation of the antidumping duty orders on carbazole violet pigment 23 (CVP-23) from India and the People's Republic of China (the PRC) would be likely to lead to continuation or recurrence of dumping at the levels indicated in the “Final Results of Sunset Reviews” section of this notice.

DATES: Effective date: August 6, 2015.

FOR FURTHER INFORMATION CONTACT: Kaitlin Wojnar, Antidumping and Countervailing Duty Operations, Office VII, Enforcement and Compliance, International Trade Administration, U.S. Department of Commerce, 14th Street and Constitution Avenue NW., Washington, DC 20230, at (202) 482-3857.

SUPPLEMENTARY INFORMATION:

Background

On December 29, 2004, the Department of Commerce (the Department) published the AD orders on CVP-23 from India and the PRC.¹ On April 1, 2015, pursuant to section 751(c) of the Tariff Act of 1930, as amended (the Act), the Department published notice of the initiation of the second sunset reviews of the antidumping duty orders on CVP-23 from India and the PRC.² On April 13, 2015, in accordance with 19 CFR 351.218(d)(1)(i), the following domestic CVP-23 producers timely notified the Department of their intent to participate in these reviews: Nation Ford Chemical Company and Sun Chemical Corporation (collectively, Petitioners).³ Petitioners claimed interested party status under section 771(9)(C) of the Act, as manufacturers of a domestic like product in the United States. On May 1, 2015, we received a complete substantive response for each review from Petitioners within the 30-day deadline specified in 19 CFR 351.218(d)(3)(i).⁴ We received no substantive responses from any respondent interested parties. As a result, pursuant to section 751(c)(3)(B) of the Act and 19 CFR 351.218(e)(1)(ii)(C)(2), the Department conducted expedited sunset reviews of these orders.

¹ See Notice of Amended Final Determination of Sales at Less Than Fair Value and Antidumping Duty Order: Carbazole Violet Pigment 23 From India, 69 FR 77988 (December 29, 2004); and Antidumping Duty Order: Carbazole Violet Pigment 23 From the People's Republic of China, 69 FR 77987 (December 29, 2004).

² See Initiation of Five-Year (“Sunset”) Review, 80 FR 17388 (April 1, 2015).

³ See Letters from Petitioners, “Carbazole Violet Pigment 23 from India/Notice of Intent to Participate in Second Sunset Review of Antidumping Duty Order” and “Carbazole Violet Pigment 23 from the People's Republic of China/Notice of Intent to Participate in Second Sunset Review of Antidumping Duty Order,” April 13, 2015.

⁴ See Letters from Petitioners, “Carbazole Violet Pigment 23 from India/Petitioners' Substantive Response” and “Carbazole Violet Pigment 23 from the People's Republic of China/Petitioners' Substantive Response,” May 1, 2015.

Scope of the Orders

The merchandise subject to this AD Order is CVP-23. Imports of merchandise included within the scope of this order are currently classifiable under subheading 3204.17.9040 of the Harmonized Tariff Schedule of the United States. The Issues and Decision Memorandum, which is hereby adopted by this notice, provides a full description of the scope of the order.⁵

⁵ See Department Memorandum, “Issues and Decision Memorandum for the Final Results of the Expedited Second Sunset Reviews of the Antidumping Duty Orders on Carbazole Violet Pigment 23 from India and the People's Republic of China” (Issues and Decision Memorandum), dated concurrently with, and hereby adopted by, this notice.

Analysis of Comments Received

All issues raised in these reviews, including the likelihood of continuation or recurrence of dumping in the event of revocation and the magnitude of the margins likely to prevail if the orders are revoked, are addressed in the accompanying Issues and Decision Memorandum. The Issues and Decision Memorandum is a public document and is available electronically via Enforcement and Compliance's Antidumping and Countervailing Duty Centralized Electronic Service System (ACCESS). ACCESS is accessible to registered users at http://access.trade.gov and to all parties in the Department's Central Records Unit, Room B8024 of the Department's main building. In addition, a complete version of the Issues and Decision Memorandum can be viewed at http://enforcement.trade.gov/frn/. The signed Issues and Decision Memorandum and the electronic version of the Issues and Decision Memorandum are identical in content.

Final Results of Sunset Reviews

Pursuant to sections 751(c)(1) and 752(c)(1)-(3) of the Act, we determine that revocation of the antidumping duty orders on CVP-23 from India and the PRC would likely lead to continuation or recurrence of dumping up to the following weighted-average margin percentages:

Country | Weighted- average dumping margin (percent)
India | 44.80
PRC | 241.32

Notification to Interested Parties

This notice serves as the only reminder to parties subject to an administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and notice in accordance with sections 751(c), 752(c), and 771(i)(1) of the Act and 19 CFR 351.218.

Dated: July 30, 2015.
Paul Piquado,
Assistant Secretary for Enforcement and Compliance.

[FR Doc. 2015-19358 Filed 8-5-15; 8:45 am]

BILLING CODE 3510-DS-P